DEPARTMENT OF COMMERCE

National Oceanic and Atmospheric Administration

RIN 0648-XF358

Fisheries of the South Atlantic; South Atlantic Fishery Management Council; Public Meeting

AGENCY: National Marine Fisheries Service (NMFS), National Oceanic and Atmospheric Administration (NOAA), Commerce.

ACTION: Notice of a public meeting of the South Atlantic Ecosystem Modelling Workgroup (WG).

SUMMARY: The South Atlantic Fishery Management Council (Council) will hold a meeting of the Modelling Workgroup in St. Petersburg, FL. The Workgroup will be meeting to advance collaborative development of a new South Atlantic Ecopath model, the first component of a South Atlantic ecosystem model effort funded through the South Atlantic Conservation Cooperative (SALCC). The meeting is open to the public.

DATES: The meeting will be held from Wednesday, May 24, 2017, from 9 a.m. until 4 p.m. and Thursday, May 25, 2017, from 9 a.m. until 1 p.m.

ADDRESSES:

Meeting address: The meeting will be held at the Sirata Beach Resort & Conference Center, 5300 Gulf Boulevard, St. Petersburg, FL 33706.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone (843) 571-4366 or toll free (866) SAFMC-10; fax (843) 769-4520; email: kim.iverson@safmc.net.

SUPPLEMENTARY INFORMATION: Items to be addressed or sessions to be conducted during this meeting include: Review of the Council's Fishery Ecosystem Plan II (FEP II) Managed Species Section development and input on developing EcoSpecies online system supporting the FEP II.

Special Accommodations

These meetings are physically accessible to people with disabilities. Requests for auxiliary aids should be directed to the Council office (see ADDRESSES) 5 days prior to the meeting.

Note: The times and sequence specified in this agenda are subject to change.

Dated: May 3, 2017.
Tracey L. Thompson,
Acting Deputy Director, Office of Sustainable Fisheries, National Marine Fisheries Service.

[FR Doc. 2017-09226 Filed 5-5-17; 8:45 am]

BILLING CODE 3510-22-P